DEPARTMENT OF ENERGY

Federal Energy Regulatory Commission

[Docket No. ER04-928-003]

California Independent System; Operator Corporation; Notice of Filings

October 10, 2006.

Take notice that on August 1, 2005, the Pacific Gas and Electric Company (PG&E) and Southern California Edison Company submitted filings to comply with the Commission's July 1, 2005 Order in Docket No. ER04-928-000, Public Utilities With Existing Contracts In California Independent System Operator Corporation Region, 112 FERC ¶ 61,007 (2005).

On November 14, 2005, PG&E submitted a new existing transmission contract template to recognize the encumbrance created by the Midway-Sunset Agreement (Rate Schedule No. 182) on PG&E's facilities and Midway-Sunset's right under the agreement.

Any person desiring to intervene or to protest these filings must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

These filings are accessible on-line at http://www.ferc.gov, using the “eLibrary” link and are available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on October 24, 2006.

Magalie R. Salas,
Secretary.

[FR Doc. E6-17204 Filed 10-16-06; 8:45 am]

BILLING CODE 6717-01-P